DEPARTMENT OF HEALTH AND HUMAN SERVICES

Centers for Medicare & Medicaid Services

[CMS-0031-N]

Medicare Program; Listening Session Regarding the Implementation of Section 10332 of the Patient Protection and Affordable Care Act, Availability of Medicare Data for Performance Measurement

DATE: September 20, 2010.

AGENCY: Centers for Medicare & Medicaid Services (CMS), HHS.

ACTION: Notice of meeting.

SUMMARY: This notice announces a listening session to receive comments regarding implementation of section 10332 of the Patient Protection and Affordable Care Act (the Affordable Care Act), which amended section 1874 of the Social Security Act: Availability of Medicare Data for Performance Measurement. The purpose of the listening session is to solicit input from potential stakeholders on key components of the design of the program. We are soliciting input on the types of organizations that may be interested in receiving data as qualified entities under this provision; the criteria such organizations will have to meet for participation; procedures for CMS to approve interested organizations for participation; provider communities and geographic areas that might be served by these entities; data elements required, and the sources and types of other data that these organizations might match to Medicare claims; challenges in calculating performance measures from the data, and issues related to the identification, selection, and reporting of the performance measures.

DATES: Meeting Date: The listening session will be held on Monday, September 20, 2010 from 9 a.m. until 1 p.m. Eastern Daylight Time (e.d.t.).

Deadline for Meeting Registration and Request for Special Accommodations: Registration opens on August 27, 2010. Registration must be completed by 5 p.m. e.d.t. on September 16, 2010. Requests for special accommodations must be received by 5 p.m. e.d.t. on September 16, 2010.

Deadline for Submission of Written Comments or Statements: Written comments or statements may be sent via mail, fax, or electronically to the address specified in the ADDRESSES section of this notice and must be received by 5 p.m. e.d.t. on September 27, 2010.

ADDRESSES: Meeting Location: The listening session will be held in the main auditorium of the Central Building of the Centers for Medicare & Medicaid Services, 7500 Security Boulevard, Baltimore, MD 21244-1850.

Registration and Special Accommodations: Persons interested in attending the meeting or participating by teleconference must register by completing the on-line registration via the CMS Web site at http://www.cms.gov. Individuals who require special accommodations should send an e-mail request to colleen.bruce@cms.hhs.gov or by regular mail to Colleen Bruce at the address specified in the FOR FURTHER INFORMATION CONTACT section of this notice.

FOR FURTHER INFORMATION CONTACT: For further information regarding the September 20, 2010 listening session contact Colleen Bruce at (410) 786-5529. You may also send inquiries about this listening session by e-mail to colleen.bruce@cms.hhs.gov or by regular mail at Centers for Medicare & Medicaid Services, Mail Stop C5-19-16, 7500 Security Boulevard, Baltimore, MD 21244-1850.

All persons planning to make a statement in person at the listening session are encouraged to submit statements in writing at the listening session and should subsequently submit the information electronically by the timeframe specified in the DATES section of this notice.

I. Background

Section 10332 of the Patient Protection and Affordable Care Act (the Affordable Care Act) adds a new subsection to section 1874 of the Social Security Act (the Act), which requires that the Secretary of the Department of Health and Human Services (the Secretary) to make data available to qualified entities for the evaluation of the performance of providers of services and suppliers by January 1, 2012. A qualified entity is a public or private entity that meets qualifications established by the Secretary and that proposes to use claims data to evaluate the performance of providers of services and suppliers on measures of quality, efficiency, effectiveness, and resource use. These data will be standardized extracts of Medicare Parts A, B, and D claims data for one or more specified geographic areas and time periods requested by a qualified entity. This provision specifies that the Secretary shall take such actions as deemed necessary to protect the identity of individual beneficiaries. The data shall be made available to qualified entities at a fee equal to the cost of making such data available.

Section 1874 of the Act states that a qualified entity requesting data under this subsection must:

• Submit a description of the methodologies it will use to evaluate the performance of providers and suppliers;

• Use standard/endorsed measures, or alternative measures if the Secretary so determines;

• Include data made available under this subsection with claims data from other sources in the evaluation of performance of providers of services and suppliers;

• Only use data made available, and information derived from an evaluation of the performance of providers and suppliers, for the reports required by this provision;

• Include in the reports an understandable description of the measures, risk adjustment methods, physician attribution methods, other applicable methods, and data specifications and limitations;

• Receive prior review by the Secretary of the format of proposed reports;

• Make the information available confidentially, to any provider or supplier prior to the public release of such report; and

• Only include information on a provider of services or supplier in aggregate form.

This section must be implemented by January 1, 2012.

II. Listening Session Format

The listening session will be held on September 20, 2010. Employers, health plans and their representatives, measure developers, health care providers and professionals, professional associations, consumer organizations, community representatives, and other interested stakeholders are invited to participate, in person or by teleconference. The session will begin at 9:00 a.m. e.d.t. with an overview of the objectives for the session and a brief summary of the requirements of section 10332 of the Affordable Care Act. Beginning at approximately 9:30 a.m. e.d.t., the remainder of the meeting will be devoted to presenting the questions for comment and receiving comments on design and policy options in four topic areas—(1) Eligibility criteria and the application process for qualified entities; (2) definition and selection of quality and performance measures; (3) data extraction and distribution process; and (4) data privacy and security requirements, including oversight. The agenda will provide opportunities for brief two-minute comments from on-site session attendees regarding the questions for comment and design and policy options. As time allows, telephone participants will also have the opportunity to provide brief two-minute comments. The meeting will conclude by 1 p.m. with brief comments on our next steps. The opinions and alternatives provided during this meeting will assist us as we develop requirements for this program. We anticipate posting background materials and the questions for comment on the CMS Web site at http://www.cms.gov/ approximately two weeks before the session.

III. Registration Instructions

For security reasons, any persons wishing to attend this meeting must register by the date listed in the DATES section of this notice. Persons interested in attending the meeting or participating by teleconference must register by completing the on-line registration via the designated Web site at http://www.cms.gov. The on-line registration system will generate a confirmation page to indicate the completion of your registration. Participants should print this page as his or her registration receipt.

Individuals may also participate in the listening session by teleconference. Registration is required as the number of call-in lines will be limited. The call-in number will be provided upon confirmation of registration.

An audio download and transcript of the listening session will be available within two weeks after completion of the listening session through the CMS Web site at http://www.cms.gov.

IV. Security, Building, and Parking Guidelines

This meeting will be held in a Federal government building; therefore, Federal security measures are applicable. In planning your arrival time, we recommend allowing additional time to clear security. The on-site check-in for visitors will begin at 8:15 a.m. e.d.t. We recommend that participants allow sufficient time to complete security checkpoints.

Security measures include the following:

• Presentation of government-issued photographic identification to the Federal Protective Service or Guard Service personnel.

• Interior and exterior inspection of vehicles (this includes engine and trunk inspection) at the entrance to the grounds. Parking permits and instructions will be issued after the vehicle inspection.

• Passing through a metal detector and inspection of items brought into the building. We note that all items brought to CMS, whether personal or for the purpose of demonstration or to support a demonstration, are subject to inspection.

We cannot assume responsibility for coordinating the receipt, transfer, transport, storage, set-up, safety, or timely arrival of any personal belongings or items used for demonstration or to support a demonstration.

We note that individuals who are not registered in advance will not be permitted to enter the building and will be unable to attend the meeting. The public may not enter the building earlier than 45 minutes prior to the convening of the meeting. All visitors must be escorted in areas other than the lower and first floor levels in the Central Building. Seating capacity is limited to the first 250 registrants.

(Catalog of Federal Domestic Assistance Program No. 93.773, Medicare—Hospital Insurance; and Program No. 93.774, Medicare—Supplementary Medical Insurance Program)

Dated: August 18, 2010.
Donald M. Berwick,
Administrator, Centers for Medicare & Medicaid Services.

[FR Doc. 2010-21369 Filed 8-26-10; 8:45 am]

BILLING CODE P